DEPARTMENT OF AGRICULTURE

Federal Crop Insurance Corporation

7 CFR Part 457

RIN 0563-AC03

Common Crop Insurance Regulations, Mint Crop Insurance Provisions; Correction

AGENCY: Federal Crop Insurance Corporation, USDA.

ACTION: Final rule; correction.

SUMMARY: This document contains a correction to the final regulation which was published Thursday, May 3, 2007 (72 FR 24523-24530). The regulation pertains to the insurance of mint.

DATES: Effective Date: June 4, 2007.

FOR FURTHER INFORMATION CONTACT: Linda Williams, Risk Management Specialist, Product Management, Product Administration and Standards Division, Risk Management Agency, United States Department of Agriculture, 6501 Beacon Drive, Stop 0812, Room 421, Kansas City, MO 64133-4676, telephone (816) 926-7730.

SUPPLEMENTARY INFORMATION:

Background

The final regulation that is the subject of this correction was intended to convert the mint pilot crop insurance program to a permanent crop insurance regulation to be used in conjunction with the Common Crop Insurance Policy Basic Provisions for ease of use and consistency of terms.

Need for Correction

As published, the final regulation contained an error which may prove to be misleading and needs to be clarified. Section 13(e)(3) mistakenly includes a reference to section 8(d). However, there is no section 8(d). The correct reference should be to the provisions contained in section 8(b), which provides the requirements for when a crop inspection must be made before insurance coverage begins.

List of Subjects in 7 CFR Part 457

Crop Insurance, Mint, Reporting and recordkeeping requirements.

Correction of Publication

Accordingly, the 7 CFR part 457 is corrected as follows:

PART 457—COMMON CROP INSURANCE REGULATIONS

1. The authority citation for 7 CFR part 457 continues to read as follows:

Authority: 7 U.S.C. 1506(l) and 1506(p).

2. Amend § 457.169 by revising section 13(e)(3) to read as follows:

§ 457.169 Mint crop insurance provisions.

* * * * *

13. Winter Coverage Option

* * * * *

(e) * * *

(3) That have an adequate stand on the date coverage begins (newly planted mint types must be reported in accordance with section 8(b) but they must be reported as uninsured unless they have an adequate stand by the date coverage begins); and

* * * * *

Signed in Washington, DC, on May 17, 2007.
Eldon Gould,
Manager, Federal Crop Insurance Corporation.

[FR Doc. E7-9885 Filed 5-23-07; 8:45 am]

BILLING CODE 3410-08-P